COMMISSION ON CIVIL RIGHTS

Agenda and Notice of Public Meeting of the Oregon Advisory Committee

Notice is hereby given, pursuant to the provisions of the rules and regulations of the U.S. Commission on Civil Rights (Commission), and the Federal Advisory Committee Act (FACA), that a meeting of the Oregon Advisory Committee (Committee) to the Commission will convene on Thursday, December 18, 2014, at 1:00 p.m. and adjourn at approximately 2:00 p.m. The meeting will be held by teleconference. The purpose of the meeting is for the Committee to discuss its report on the status of civil rights.

This meeting is available to the public through the following toll-free call-in number: 877-446-3914, conference ID: 440519. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to submit written comments. The comments must be received in the Western Regional Office by October 12, 2014. The mailing address is Western Regional Office, U.S. Commission on Civil Rights, 300 N. Los Angeles St., Suite 2010, Los Angeles, CA 90032. Persons wishing to email their comments may do so to atrevino@usccr.gov. Persons that desire additional information should contact Angelica Trevino, Western Regional Office, at (213) 894-3437.

Hearing-impaired persons who will attend the meeting and require the services of a sign language interpreter should contact the Regional Office at least ten (10) working days before the scheduled date of the meeting.

Records generated from this meeting may be inspected and reproduced at the Western Regional Office, as they become available, both before and after the meeting. Persons interested in the work of this Committee are advised to go to the Commission's Web site, www.usccr.gov, or to contact the Western Regional Office at the above email or street address.

The meeting will be conducted pursuant to the provisions of the rules and regulations of the Commission and FACA.

Dated in November 25, 2014.
David Mussatt,
Chief, Regional Programs Coordination Unit.

[FR Doc. 2014-28276 Filed 12-1-14; 8:45 am]

BILLING CODE 6335-01-P